DEPARTMENT OF AGRICULTURE

Forest Service

Siskiyou Resource Advisory Committee (RAC)

ACTION: Notice of meeting.

SUMMARY: The Siskiyou Resource Advisory Committee will meet on Thursday, July 20, 2006 to recommend Title II projects for fiscal year 2007 under the Secure Rural Schools and Community Self Determination Act of 2000. The meeting will be held at the Cave Junction City Hall, 222 W. Lister Street, Cave Junction, Oregon. It begins at 9 a.m. ends at 2:30 p.m.; the open public comments begin at 11 a.m. and ends at 11:30 a.m. Written comments may be submitted prior to the meeting and delivered to Designated Federal Official, Scott Conroy at the Rogue River-Siskiyou National Forest, P.O. Box 520, Medford, Oregon 97501.

FOR FURTHER INFORMATION CONTACT: Rogue River-Siskiyou National Forest Public Affairs Officer Patty Burel at telephone: (541) 858-2211, e-mail: pburel@fs.fed.us, or USDA Forest Service, P.O. Box 520, 333 West 8th Street, Medford, OR 97501.

Dated: June 15, 2006.
Scott Conroy,
Forest Supervisor, Rogue River-Siskiyou National Forest.

[FR Doc. 06-5588 Filed 6-21-06; 8:45 am]

BILLING CODE 3410-11-M